DEPARTMENT OF TRANSPORTATION

Federal Aviation Administration

14 CFR Part 39

[Docket No. FAA-2013-0423; Directorate Identifier 2012-NM-176-AD; Amendment 39-17714; AD 2013-26-05]

RIN 2120-AA64

Airworthiness Directives; Dassault Aviation Airplanes

AGENCY: Federal Aviation Administration (FAA), Department of Transportation (DOT).

ACTION: Final rule.

SUMMARY: We are adopting a new airworthiness directive (AD) for all Dassault Aviation Model FAN JET FALCON, FAN JET FALCON SERIES C, D, E, F, and G airplanes; Model MYSTERE-FALCON 200 airplanes; and Model MYSTERE-FALCON 20-C5, 20-D5, 20-E5, and 20-F5 airplanes. This AD was prompted by reports of a manufacturing defect in the charge indicator on fire extinguisher bottles. This AD requires repetitive weighing of fire extinguisher bottles having a certain part number, and eventual replacement of those bottles to terminate the repetitive weighing. We are issuing this AD to detect and correct a dormant failure in the fire suppression system, which could result in the inability to put out a fire in an engine, auxiliary power unit, or rear compartment.

DATES: This AD becomes effective October 20, 2014.

The Director of the Federal Register approved the incorporation by reference of certain publications listed in this AD as of October 20, 2014.

ADDRESSES: You may examine the AD on the Internet at http://www.regulations.gov/#!docketDetail;D=FAA-2013-0423; or in person at the Docket Management Facility, U.S. Department of Transportation, M-30, West Building Ground Floor, Room W12-140, 1200 New Jersey Avenue SE., Washington, DC.

For service information identified in this AD, contact Dassault Falcon Jet, P.O. Box 2000, South Hackensack, NJ 07606; telephone 201-440-6700; Internet http://www.dassaultfalcon.com. You may view this referenced service information at the FAA, Transport Airplane Directorate, 1601 Lind Avenue SW., Renton, WA. For information on the availability of this material at the FAA, call 425-227-1221.

FOR FURTHER INFORMATION CONTACT: Tom Rodriguez, Aerospace Engineer, International Branch, ANM-116, Transport Airplane Directorate, FAA, 1601 Lind Avenue SW., Renton, WA 98057-3356; phone: 425-227-1137; fax: 425-227-1149.

SUPPLEMENTARY INFORMATION:

Discussion

We issued a notice of proposed rulemaking (NPRM) to amend 14 CFR part 39 by adding an AD that would apply to all Dassault Aviation Model FAN JET FALCON, FAN JET FALCON SERIES C, D, E, F, and G airplanes; Model MYSTERE-FALCON 200 airplanes; and Model MYSTERE-FALCON 20-C5, 20-D5, 20-E5, and 20-F5 airplanes. The NPRM published in the Federal Register on May 21, 2013 (78 FR 29669). The NPRM was prompted by reports of a manufacturing defect in the charge indicator on fire extinguisher bottles. The NPRM proposed to require repetitive weighing of fire extinguisher bottles having a certain part number, and eventual replacement of those bottles to terminate the repetitive weighing. We are issuing this AD to detect and correct a dormant failure in the fire suppression system, which could result in the inability to put out a fire in an engine, auxiliary power unit, or rear compartment.

The European Aviation Safety Agency (EASA), which is the Technical Agent for the Member States of the European Community, has issued EASA Airworthiness Directive 2012-0189, dated September 24, 2012 (referred to after this as the Mandatory Continuing Airworthiness Information, or “the MCAI”), to correct an unsafe condition for all Dassault Aviation Model FAN JET FALCON, FAN JET FALCON SERIES C, D, E, F, and G airplanes; Model MYSTERE-FALCON 200 airplanes; and Model MYSTERE-FALCON 20-C5, 20-D5, 20-E5, and 20-F5 airplanes. The MCAI states:

A manufacturing defect of the charge indicator of fire extinguisher bottles has been reported on Dassault Aviation Fan Jet Falcon and Mystère-Falcon 20 series aeroplanes.

The results of the investigations concluded that this defect may lead to corrosion of the charge indicator, causing improper indication of loss of pressure inside the bottle. In addition, the Part Numbers (P/N) of the fire extinguishers and batch numbers of the affected charge indicators have been identified.

This condition, if not detected and corrected, could constitute a dormant failure that might impact the capability to extinguish a fire, either in an engine or the Auxiliary Power Unit (APU) or the rear compartment, possibly resulting in damage to the aeroplane and injury to the occupants.

For the reasons described above, this [EASA] AD requires repetitive weighing of the affected fire extinguishers bottles and, ultimately replacement of the affected bottles with serviceable bottles. In addition, this [EASA] AD prohibits installation of an affected fire extinguisher bottle.

You may examine the MCAI in the AD docket on the Internet at http://www.regulations.gov/#!documentDetail;D=FAA-2013-0423-0003.

Comments

We gave the public the opportunity to participate in developing this AD. We received no comments on the NPRM (78 FR 29669, May 21, 2013) or on the determination of the cost to the public.

“Contacting the Manufacturer” Paragraph in This AD

Since late 2006, we have included a standard paragraph titled “Airworthy Product” in all MCAI ADs in which the FAA develops an AD based on a foreign authority's AD.

We have become aware that some operators have misunderstood or misinterpreted the Airworthy Product paragraph to allow the owner/operator to use messages provided by the manufacturer as approval of deviations during the accomplishment of an AD-mandated action. The Airworthy Product paragraph does not approve messages or other information provided by the manufacturer for deviations to the requirements of the AD-mandated actions. The Airworthy Product paragraph only addresses the requirement to contact the manufacturer for corrective actions for the identified unsafe condition and does not cover deviations from other AD requirements. However, deviations to AD-required actions are addressed in 14 CFR 39.17, and anyone may request the approval for an alternative method of compliance to the AD-required actions using the procedures found in 14 CFR 39.19.

To address this misunderstanding and misinterpretation of the Airworthy Product paragraph, we have changed the paragraph and retitled it “Contacting the Manufacturer.” This paragraph now clarifies that for any requirement in this AD to obtain corrective actions from a manufacturer, the actions must be accomplished using a method approved by the FAA, EASA, or Dassault Aviation's EASA Design Organization Approval (DOA).

The Contacting the Manufacturer paragraph also clarifies that, if approved by the DOA, the approval must include the DOA-authorized signature. The DOA signature indicates that the data and information contained in the document are EASA-approved, which is also FAA-approved. Messages and other information provided by the manufacturer that do not contain the DOA-authorized signature approval are not EASA-approved, unless EASA directly approves the manufacturer's message or other information.

This clarification does not remove flexibility previously afforded by the Airworthy Product paragraph. Consistent with long-standing FAA policy, such flexibility was never intended for required actions. This is also consistent with the recommendation of the Airworthiness Directive Implementation Aviation Rulemaking Committee to increase flexibility in complying with ADs by identifying those actions in manufacturers' service instructions that are “Required for Compliance” with ADs. We continue to work with manufacturers to implement this recommendation. But once we determine that an action is required, any deviation from the requirement must be approved as an alternative method of compliance.

We also have decided not to include a generic reference to either the “delegated agent” or “design approval holder (DAH) with State of Design Authority design organization approval,” but instead we have provided the specific delegation approval granted by the State of Design Authority for the DAH.

Explanation of Changes to This AD

Paragraphs (h)(2), (h)(2)(i), (h)(2)(iii), (h)(2)(iv), (i), (i)(1), (i)(3), (i)(4), (j)(1), (j)(3), and (j)(4) of this AD were revised to state that required actions must be done in accordance with a method approved by the Manager, International Branch, ANM-116, Transport Airplane Directorate, FAA; or the EASA; or Airbus's EASA DOA. The service information previously referenced in those paragraphs is now referenced as guidance material in notes to the applicable paragraphs.

Conclusion

We reviewed the available data and determined that air safety and the public interest require adopting this AD with the changes described previously and minor editorial changes. We have determined that these minor changes:

• Are consistent with the intent that was proposed in the NPRM (78 FR 29669, May 21, 2013) for correcting the unsafe condition; and

• Do not add any additional burden upon the public than was already proposed in the NPRM (78 FR 29669, May 21, 2013).

We also determined that these changes will not increase the economic burden on any operator or increase the scope of this AD.

Costs of Compliance

We estimate that this AD affects 185 airplanes of U.S. registry.

We also estimate that it will take about 4 work-hours per product to comply with the basic requirements of this AD. The average labor rate is $85 per work-hour. Required parts will cost about $6,400 per product. Based on these figures, we estimate the cost of this AD on U.S. operators to be up to $1,246,900, or $6,740 per product.

Authority for This Rulemaking

Title 49 of the United States Code specifies the FAA's authority to issue rules on aviation safety. Subtitle I, section 106, describes the authority of the FAA Administrator.“Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2013-0423; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-26-05 Dassault Aviation: Amendment 39-17714. Docket No. FAA-2013-0423; Directorate Identifier 2012-NM-176-AD.

(a) Effective Date

This airworthiness directive (AD) becomes effective October 20, 2014.

(b) Affected ADs

None.

(c) Applicability

This AD applies to Dassault Aviation Model FAN JET FALCON, FAN JET FALCON SERIES C, D, E, F, and G airplanes; Model MYSTERE-FALCON 200 airplanes; and Model MYSTERE-FALCON 20-C5, 20-D5, 20-E5, and 20-F5 airplanes, certificated in any category, all serial numbers.

(d) Subject

Air Transport Association (ATA) of America Code 26, Fire Protection.

(e) Reason

This AD was prompted by reports of a manufacturing defect in the charge indicator on fire extinguisher bottles. We are issuing this AD to detect and correct a dormant failure in the fire suppression system, which could result in the inability to put out a fire in an engine, auxiliary power unit (APU), or rear compartment.

(f) Compliance

Comply with this AD within the compliance times specified, unless already done.

(g) Definitions

For the purposes of this AD, the following definitions apply.

(1) An affected fire extinguisher bottle is any fire extinguisher bottle having a part number (P/N) included in table 1 to paragraph (h) of this AD and having a manufacturing batch number 168 through 200 inclusive on the data plate of the charge indicator.

(2) A serviceable fire extinguisher bottle is any fire extinguisher bottle having a manufacturing batch number lower than 168 or higher than 200 on the data plate of the charge indicator.

(h) Determining Charge Indicator Batch Number

Within 30 days or 100 flight hours after the effective date of this AD, whichever occurs first: Determine the manufacturing batch number for the charge indicator installed on each engine and APU fire extinguisher bottle having a part number included in table 1 to the introductory text of paragraph (h) of this AD, in accordance with the Accomplishment Instructions of Dassault Service Bulletin F20-785, also referred to as 785, dated June 11, 2012 (for Model FAN JET FALCON, FAN JET FALCON SERIES C, D, E, F, and G airplanes; and Model MYSTERE-FALCON 20-C5, 20-D5, 20-E5, and 20-F5 airplanes); or Dassault Service Bulletin F200-131, also referred to as 131, dated June 11, 2012 (for Model MYSTERE-FALCON 200 airplanes).

Table 1 to the Introductory Text of Paragraph (h) of This AD—Part Numbers of Affected Fire Extinguisher Bottles
Type of bottle— | Part number—
Engine Fire Extinguisher Bottle | 111-1555-324-12A
Engine Fire Extinguisher Bottle | 811456
Engine Fire Extinguisher Bottle | 111-355-32142A
APU Fire Extinguisher Bottle | 111-011-324-12A
APU Fire Extinguisher Bottle | 811475

(1) For fire extinguisher bottles with part numbers that are not included in table 1 to the introductory text of paragraph (h) of this AD, no further action is required by this paragraph.

(2) For any affected charge indicator, as identified in paragraph (g)(1) of this AD: Before further flight, weigh each affected fire extinguisher bottle, in accordance with a method approved by the Manager, International Branch, ANM-116, Transport Airplane Directorate, FAA; or the European Aviation Safety Agency (EASA); or Airbus's EASA Design Organization Approval (DOA). Weigh the fire extinguishers thereafter at intervals not to exceed 12 months until the applicable replacement specified in paragraph (h)(2)(i), (h)(2)(ii), (h)(2)(iii), (h)(2)(iv), or (j) of this AD is accomplished. If it is determined that the fire extinguisher weighs less than the lowest weight limit indicated on the fire extinguisher's data plate, before further flight, replace any affected fire extinguisher bottle and charge indicator cartridge with a serviceable part, in accordance with the applicable method specified in paragraph (h)(2)(i), (h)(2)(ii), (h)(2)(iii), or (h)(2)(iv) of this AD.

Note 1 to paragraph (h)(2) of this AD: The instructions specified in Dassault Maintenance Procedure, “Weighing of Engine Freon Fire Extinguishers,” (page 601, “Inspection/Check”) of Subject 26-20-2, “Extinguishing System—Description and Operation, of Chapter 26, “Fire Protection,” in Book 2 of the Dassault Falcon 20 Maintenance Manual, Phase 50, dated October 2011 (for Model FAN JET FALCON, FAN JET FALCON SERIES C, D, E, F, and G airplanes; and Model MYSTERE-FALCON 20-C5, 20-D5, 20-E5, and 20-F5 airplanes); or Procedure 2, “Engine and Rear Compartment Extinguisher (14W1-14W2): Weighing” of Falcon 200 Maintenance Requirement Card 171.0, Revised December 2011, of Chapter 26, “Fire Protection,” in Book 1, “Work Cards,” of the Dassault Falcon 200 Maintenance Manual, Revision 30, dated December 2011 (for Model MYSTERE-FALCON 200 airplanes); provide additional guidance for weighing affected fire extinguisher bottles. This service information is not incorporated by reference in this AD.

(i) For Model FAN JET FALCON, FAN JET FALCON SERIES C, D, E, F, and G airplanes; and Model MYSTERE-FALCON 20-C5, 20-D5, 20-E5, and 20-F5 airplanes: Replace the charge indicator cartridge with a serviceable part, in accordance with a method approved by the Manager, International Branch, ANM-116, Transport Airplane Directorate, FAA; or EASA; or Airbus's EASA DOA.

Note 2 to paragraphs (h)(2)(i), (i), (i)(1), and (j)(1) of this AD: The instructions specified in Dassault Maintenance Procedure, “Removal of Pyrotechnical Cartridge for Check/Replacement” (pages 401-403, “Removal/Installation”), of Subject 26-20-2 “Extinguishing System—Description and Operation,” of Chapter 26, “Fire Protection,” in Book 2 of the Dassault Falcon 20 Maintenance Manual, Phase 50, dated October 2011, are a source of guidance for the actions specified in paragraphs (h)(2)(i), (i), (i)(1), and (j)(1) of this AD. This service information is not incorporated by reference in this AD.

(ii) For Model FAN JET FALCON, FAN JET FALCON SERIES C, D, E, F, and G airplanes; and Model MYSTERE-FALCON 20-C5, 20-D5, 20-E5, and 20-F5 airplanes: Replace the fire extinguisher bottle with a serviceable part, in accordance with a method approved by the Manager, International Branch, ANM-116, Transport Airplane Directorate, FAA; or the EASA; or Airbus's EASA DOA.

(iii) For Model MYSTERE-FALCON 200 airplanes: Replace the charge indicator cartridge with a serviceable part, in accordance with a method approved by the Manager, International Branch, ANM-116, Transport Airplane Directorate, FAA; or the EASA; or Airbus's EASA DOA.

Note 3 to paragraphs (h)(2)(iii), (i), (i)(3), and (j)(3) of this AD: Procedure 3, “Engine and Rear Compartment Extinguisher (14W1-14W2): Check/Replacement of Percussion Cartridge,” of Falcon 200 Maintenance Requirement Card 171.0, Revised December 2011, of Chapter 26, “Fire Protection”, in Book 1, “Work Cards,” of the Dassault Falcon 200 Maintenance Manual, Revision 30, dated December 2011, is a source of guidance for paragraphs (h)(2)(iii), (i), (i)(3), and (j)(3) of this AD. This service information is not incorporated by reference in this AD.

(iv) For Model MYSTERE-FALCON 200 airplanes: Replace the fire extinguisher bottle with a serviceable part, in accordance with a method approved by the Manager, International Branch, ANM-116, Transport Airplane Directorate, FAA; or the EASA; or Airbus's EASA DOA.

Note 4 to paragraphs (h)(2)(iv), (i)(4), and (j)(4) of this AD: Procedure 1, “Removal/Installation,” of Falcon 200 Maintenance Requirement Card 171.0, Revised December 2011, of Chapter 26, “Fire Protection”, in Book 1, “Work Cards,” of the Dassault Falcon 200 Maintenance Manual, Revision 30, dated December 2011, is a source of guidance for replacing the fire extinguisher bottle. This service information is not incorporated by reference in this AD.

(i) Repetitive Inspections To Determine if Charge Indicator Cartridge Was Fired

Within 6 months after the effective date of this AD: Do an inspection to determine if the charge indicator cartridge installed on each engine and APU fire extinguisher bottle, as identified in table 1 to the introductory text of paragraph (h) of this AD, was fired, in accordance with a method approved by the Manager, International Branch, ANM-116, Transport Airplane Directorate, FAA; or the EASA; or Airbus's EASA DOA. Repeat the inspection thereafter at intervals not to exceed 6 months until the replacement specified in paragraph (i)(1), (i)(2), (i)(3), (i)(4), or (j) of this AD is accomplished. If it is determined that any charge indicator cartridge was fired, before further flight, replace the affected fire extinguisher bottle and charge indicator cartridge with a serviceable part, in accordance with a method approved by the Manager, International Branch, ANM-116, Transport Airplane Directorate, FAA; or the EASA; or Airbus's EASA DOA.

(1) For Model FAN JET FALCON, FAN JET FALCON SERIES C, D, E, F, and G airplanes; and Model MYSTERE-FALCON 20-C5, 2-D5, 20-E5, and 20-F5 airplanes: Replace the charge indicator cartridge with a serviceable part, in accordance with a method approved by the Manager, International Branch, ANM-116, Transport Airplane Directorate, FAA; or the EASA; or Airbus's EASA DOA.

(2) For Model FAN JET FALCON, FAN JET FALCON SERIES C, D, E, F, and G airplanes; and Model MYSTERE-FALCON 20-C5, 20-D5, 20-E5, and 20-F5 airplanes: Replace the fire extinguisher bottle with a serviceable part, in accordance with a method approved by the Manager, International Branch, ANM-116, Transport Airplane Directorate, FAA; or the EASA; or Airbus's EASA DOA.

(3) For Model MYSTERE-FALCON 200 airplanes: Replace the charge indicator cartridge with a serviceable part, in accordance with a method approved by the Manager, International Branch, ANM-116, Transport Airplane Directorate, FAA; or the EASA; or Airbus's EASA DOA.

(4) For Model MYSTERE-FALCON 200 airplanes: Replace the fire extinguisher bottle with a serviceable part, in accordance with a method approved by the Manager, International Branch, ANM-116, Transport Airplane Directorate, FAA; or the EASA; or Airbus's EASA DOA.

(j) Replacement of Fire Extinguisher Bottle and Charge Indicator Cartridge

Unless previously accomplished as specified in paragraph (h) or (i) of this AD: Within 60 months after the effective date of this AD, replace any affected fire extinguisher bottle and charge indicator cartridge, as specified in paragraph (g)(1) of this AD, with a serviceable part, in accordance with the method specified in paragraph (j)(1), (j)(2), (j)(3), or (j)(4) of this AD, as applicable. Replacement of any affected fire extinguisher bottle and charge indicator cartridge with a serviceable part terminates the repetitive actions specified in paragraphs (h) and (i) of this AD.

(1) For Model FAN JET FALCON, FAN JET FALCON SERIES C, D, E, F, and G airplanes; and Model MYSTERE-FALCON 20-C5, 20-D5, 20-E5, and 20-F5 airplanes: Replace the charge indicator cartridge with a serviceable part, in accordance with a method approved by the Manager, International Branch, ANM-116, Transport Airplane Directorate, FAA; or the EASA; or Airbus's EASA DOA.

(2) For Model FAN JET FALCON, FAN JET FALCON SERIES C, D, E, F, and G airplanes; and Model MYSTERE-FALCON 20-C5, 20-D5, 20-E5, and 20-F5 airplanes: Replace the fire extinguisher bottle with a serviceable part, in accordance with a method approved by the Manager, International Branch, ANM-116, Transport Airplane Directorate, FAA; or the EASA; or Airbus's EASA DOA.

(3) For Model MYSTERE-FALCON 200 airplanes: Replace the charge indicator cartridge with a serviceable part, in accordance with a method approved by the Manager, International Branch, ANM-116, Transport Airplane Directorate, FAA; or the EASA; or Airbus's EASA DOA.

(4) For Model MYSTERE-FALCON 200 airplanes: Replace the fire extinguisher bottle with a serviceable part, in accordance with a method approved by the Manager, International Branch, ANM-116, Transport Airplane Directorate, FAA; or the EASA; or Airbus's EASA DOA.

(k) Parts Installation Prohibition

As of the effective date of this AD, no person may install, on any airplane, a fire extinguisher bottle having a part number included in table 1 to the introductory text of paragraph (h) of this AD, fitted with a charge indicator having a manufacturing batch number on the data plate of 168 through 200 inclusive.

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, WA 98057-3356; telephone 425-227-1137; fax 425-227-1137. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the EASA; or Airbus's EASA DOA. If approved by the DOA, the approval must include the DOA-authorized signature.

(m) Related Information

(1) Refer to Mandatory Continuing Airworthiness Information (MCAI) EASA Airworthiness Directive 2012-0189, dated September 24, 2012, for related information. This MCAI may be found in the AD docket on the Internet at http://www.regulations.gov/#!documentDetail;D=FAA-2013-0423-0003.

(2) Service information identified in this AD that is not incorporated by reference is available at the addresses specified in paragraphs (n)(3) and (n)(4) of this AD.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Dassault Service Bulletin F20-785, also referred to as 785, dated June 11, 2012.

(ii) Dassault Service Bulletin F200-131, also referred to as 131, dated June 11, 2012.

(3) For service information identified in this AD, contact Dassault Falcon Jet, P.O. Box 2000, South Hackensack, NJ 07606; telephone 201-440-6700; Internet http://www.dassaultfalcon.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on August 29, 2014.
Jeffrey E. Duven,
Manager, Transport Airplane Directorate, Aircraft Certification Service.

[FR Doc. 2014-21772 Filed 9-12-14; 8:45 am]

BILLING CODE 4910-13-P